DEPARTMENT OF JUSTICE

Notice of Lodging of Proposed Consent Decree Under the Comprehensive Environmental Response, Compensation, and Liability Act

On September 27, 2012, the Department of Justice lodged a proposed Consent Decree with the United States District Court for the District of Nevada in the lawsuit entitled United States, et al. v. Atlantic Richfield, et al., Civil Action No. 3: 12-civ-524.

The Consent Decree resolves claims brought by the State of Nevada on behalf of the Nevada Division of Environmental Protection (“NDEP”) and the Nevada Department of Wildlife (“NDOW”), the United States, on behalf of the United States Environmental Protection Agency (“EPA”), the United States Department of Interior (“DOI”) Bureau of Indian Affairs and Fish and Wildlife Service (“BIA” and “FWS” respectively), the United States Department of Agriculture, Forest Service (“USFS”), and the Shoshone-Paiute Tribes (“Tribes”), against Settling Defendants Atlantic Richfield Company, The Cleveland-Cliff Iron Company, E.I. du Pont de Nemours and Company, Teck American Incorporated, and Mountain City Remediation, LLC (“Defendants”), under Nevada Water Pollution Control Law, NRS § 445A.300 to 445A.730, and Section 106 and 107 of the Comprehensive Environmental Response, Compensation, and Liability Act, 42 U.S.C. 9606 and 9607, et. seq. (“CERCLA”), related to the releases and threatened releases of hazardous substances at the Rio Tinto Mine Superfund Alternative Site (“Site”) in Elko County, Nevada.

The proposed Consent Decree requires the Settling Defendants to undertake a number of obligations including: (1) Implement the remedy selected in the Record of Decision on February 14, 2012, at an estimated cost of over $25 million; (2) pay to the State certain future response costs; (3) pay to EPA certain future response costs; (4) pay EPA $1,234,067 for past response costs; (5) pay to the Federal Natural Resource Trustees, DOI, and USFS, resource damage assessment costs of $709,527; and (6) pay to the Tribes $150,000 for their past and future costs.

The salient features of the remedy include removal of mine tailings and relocation of these materials to an engineered, covered repository constructed on-site; realignment and lining of a portion of Mill Creek, which will be reconstructed to allow for seasonal passage of Redband Trout between the Owyhee River and upper Mill Creek; reclamation of soil and re-vegetation in Lower Mill Creek Valley; monitoring of Mill Creek and the East Fork Owhyee River, and implementation of specific additional tasks necessary to achieve Performance Standards (specified in the ROD); collection and analysis of water samples from downstream points in the East Fork Owyhee River to determine if persistent water quality anomalies in the river exist, and whether they may be attributable to releases from the underground mine workings; and, if so, performance of additional investigation or response actions which NDEP or EPA may require to address anomalies determined to be attributable to the underground mine workings.

The publication of this notice opens a period for public comment on the Consent Decree. Comments should be addressed to the Assistant Attorney General, Environment and Natural Resources Division, and should refer to United States, et al. v. Atlantic Richfield, et al., D.J. Ref. No. 90-11-3-08510. All comments must be submitted no later than thirty (30) days after the publication date of this notice. Comments may be submitted either by email or by mail:

To submit comments: | Send them to:
By email | pubcomment-ees.enrd@usdoj.gov
By mail | Assistant Attorney General U.S. DOJ—ENRD P.O. Box 7611 Washington, DC 20044-7611

During the public comment period, the Consent Decree may be examined on the following Department of Justice Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $100.50 (25 cents per page reproduction cost) payable to the United States Treasury. In requesting a copy exclusive of exhibits and Defendants' signatures, please enclose a check in the amount of $31.00 (25 cents per page reproduction cost) payable to the U.S. Treasury.

Maureen Katz,
Assistant Chief, Environmental Enforcement Section, Environment and Natural Resources Division.

[FR Doc. 2012-24463 Filed 10-3-12; 8:45 am]

BILLING CODE 4410-15-P